OFFICE OF NATIONAL DRUG CONTROL POLICY

Meeting of the Drug Control Research, Data, and Evaluation Committee

AGENCY: Office of National Drug Control Policy.

ACTION: Notice of meeting.

SUMMARY: A meeting of the Drug Control Research, Data, and Evaluation Committee will be held on July 26-27, 2001 at the Office of National Drug Control Policy in the 5th Floor Conference Room, 750 17th Street NW., Washington, DC. The meeting will begin promptly each day at 9:00 a.m. and adjourn at 4:00 p.m. the agenda will include: review and discussion of the National Academy of Science's Report entitled “Informing American's Policy on Illegal Drugs, What We Don't Know Keeps Hurting Us.” The agenda will also cover the following: Drug Free Communities Grant Program: Administration activities related to: prevention, families, schools, and workplaces; treatment initiatives: closing the treatment gap, keeping prisons drug free, faith-based programs related to prevention and treatment; Youth Anti-Drug Media Campaign; interagency activities related to public safety and public. There will be an opportunity for public comment from 11:30 to 12:00 on Thursday, July 26, 2001.

FOR FURTHER INFORMATION CONTACT: Linda V. Priebe, (202) 395-6622.

Dated: June 25, 2001.
Linda V. Priebe,
Assistant General Counsel.

[FR Doc. 01-17215 Filed 7-9-01; 8:45 am]

BILLING CODE 3180-02-M